DEPARTMENT OF HEALTH AND HUMAN SERVICES

Health Resources and Services Administration

Notice of Availability of Draft Policy Document for Comment

AGENCY: Health Resources and Services Administration (HRSA), HHS.

ACTION: This Policy Information Notice (PIN) describes the documentation that will be considered by the Health Resources and Services Administration (HRSA) to establish whether an organization can qualify as a “public agency” (also referred to in previous PINs as “public entities” or “public applicants”) for the purpose of determining eligibility for a Health Center Program grant under Section 330 of the Public Health Service (PHS) Act (“Section 330”) and/or Federally Qualified Health Center (FQHC) Look-Alike designation. This draft PIN is available on the Internet at http://bphc.hrsa.gov/draftsforcomment/publiccenter.

DATES: Comments must be received by October 13, 2009.

ADDRESSES: Comments should be submitted to OPPDGeneral@hrsa.gov by close of business October 13, 2009.

SUMMARY: HRSA believes that community input is valuable to the development of policies and policy documents related to the implementation of HRSA programs, including the Health Center Program. Therefore, we are requesting comments on the PIN referenced above. Comments will be reviewed and analyzed, and a summary and general response will be published as soon as possible after the deadline for receipt of comments.

Background: HRSA administers the Health Center Program, which supports more than 1,100 organizations operating more than 7,500 health care delivery sites, including community health centers, migrant health centers, health care for the homeless centers, and public housing primary care centers. Health centers serve medically underserved communities delivering preventive and primary care services to patients regardless of their ability to pay. The Health Center Program's authorizing statute and implementing regulations (Section 330 of the PHS Act and 42 CFR Part 51c) state that any public or non-profit private entity is eligible to apply for a grant under the Health Center Program. The term “public agency” is not explicitly defined in Section 330 or in the Health Center Program's regulations; however, reference is made in Section 330 to these types of organizations within the definition of a public center as “a health center funded (or to be funded) through a grant under this section to a public agency” (Section 330(k)(3)(M) of the PHS Act). HRSA is issuing this PIN to describe the documentation that will be considered to establish whether an organization can qualify as a “public agency” (also referred to in previous PINs as “public entities” or “public applicants”) for purposes of determining eligibility for a Health Center Program grant under Section 330 of the PHS Act and/or FQHC Look-Alike designation.

FOR FURTHER INFORMATION CONTACT: For questions regarding this notice, please contact the Office of Policy and Program Development, Bureau of Primary Health Care, HRSA, at 301-594-4300.

Dated: August 24, 2009.
Mary K. Wakefield,
Administrator.

[FR Doc. E9-20818 Filed 8-27-09; 8:45 am]

BILLING CODE 4165-15-P